DEPARTMENT OF AGRICULTURE

Submission for OMB Review; Comment Request

September 6, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Chief Financial Officer

Title: Debt Collection.

OMB Control Number: 0505-0007.

Summary of Collection: The Debt Collection Act of 1982, Public Law 97-365, 96 Stat. 1749, as amended by Public Law 98-167, 97 Stat. 1104, and the Debt Collection Improvement Act of 1996 (DCIA), Public Law 104-134, require that any payable monies or those that may become payable may be subject to administrative offset for the collection of a delinquent debt a person or legal entity owes to the United States. Section 10 of the act requires that debtors be provided due process prior to the collection of any claims through administrative offset. Delinquent debtors wishing to appeal must provide the creditor agencies with relevant information. USDA agencies will collect information using a letter of intent from the creditor agencies to delinquent debtors.

Need and Use of the Information: USDA agencies will collect information using a letter of intent from the creditor agencies to delinquent debtors targeted for administrative offset who want additional information; wish to enter into repayment agreements; or wish to request a review of agencies' determination to offset appropriation action. The creditor agencies will not be able to comply with the due process provision of the Debt Collection Act or the Debt Collection Improvement Act if relevant information is not collected.

Description of Respondents: Individuals or households; Business or other for-profit; Farms.

Number of Respondents: 16,985.

Frequency of Responses: Reporting: On occasion.

Total Burden Hours: 33,790.

Ruth Brown,
Departmental Information Collection Clearance Officer.

[FR Doc. 05-17965 Filed 9-9-05; 8:45 am]

BILLING CODE 3410-KS-P